DEPARTMENT OF JUSTICE

Antitrust Division

Notice Pursuant to the National Cooperative Research and Production Act of 1993—Southwest Research Institute: Clean Diesel IV

Notice is hereby given that, on October 6, 2004, pursuant to section 6(a) of the National Cooperative Research and Production Act of 1993, 15 U.S.C. 4301 et seq. (“the Act”), Southwest Research Institute: Clean Diesel IV (“SWRI”) has filed written notifications simultaneously with the Attorney General and the Federal Trade Commission Disclosing changes in its membership status. The notifications were filed for the purpose of extending the Act's provisions limiting the recovery of antitrust plaintiffs to actual damages under specified circumstances. Specifically, ArvinMeritor, Inc., Troy, MI; Dayco Fluid Technologies SPA, Torino, Italy; Denso Corporation, Kariya City, Japan; Nippon Soken, Nishio City, Japan; Renault Car, Cedex, France; and Total France, Cedex, France have been added as parties to this venture.

No other changes have been made in either the membership or planned activity of the group research project. Membership in this group research project remains open, and SWRI intends to file additional written notification disclosing all changes in membership.

On April 6, 2004, SWRI: Clean Diesel IV filed its original notification pursuant to section 6(a) of the Act. The Department of Justice published a notice in the Federal Register pursuant to section 6(b) of the Act on May 10, 2004 (69 FR 25923).

The last notification was filed with the Department on May 18, 2004. A notice was published in the Federal Register pursuant to section 6(b) of the Act on June 15, 2004 (69 FR 33417).

Dorothy B. Fountain,
Deputy Director of Operations, Antitrust Division.

[FR Doc. 04-25082 Filed 11-9-04; 8:45 am]

BILLING CODE 4410-11-M